ELECTION ASSISTANCE COMMISSION

Notice and Request for Public Comment on VVSG Lifecycle Policy

AGENCY: Election Assistance Commission.

ACTION: Notice for public comment.

SUMMARY: The U.S. Election Assistance Commission (EAC) is publishing the Voluntary Voting System Guidelines (VVSG) Lifecycle Policy 1.0 for public comment. The intent of the VVSG Lifecycle Policy is to help facilitate migration to the new VVSG 2.0 standard by providing guidance on the types of version changes, Voting System Test Laboratory (VSTL) accreditation, deprecation of obsolete major standards, and establishing a periodic review and update timeline for new standards going forward. The policy defines changes that may be made to systems certified to deprecated standards and describes the process for updating the standards.

DATES: Comments must be received no later than 5 p.m. Eastern Standard Time on December 7, 2021.

ADDRESSES: Submission of Comments: Comments on the proposed VVSG Lifecycle Policy 1.0 should be submitted electronically via https://www.regulations.gov (docket ID: EAC-2021-0001). Written comments on the proposed information collection can also be sent to the U.S. Election Assistance Commission, 633 3rd Street NW, Suite 200, Washington, DC 20001, Attn: Testing & Certification.

Obtaining a copy of the VVSG Lifecycle Policy 1.0: To obtain a copy of the draft VVSG Lifecycle Policy 1.0 (1) Download a copy at https://www.regulations.gov (docket ID: EAC-2021-0001); or (2) write to the EAC (including your address and phone number) at U.S. Election Assistance Commission, 633 3rd Street NW, Suite 200, Washington, DC 20001, Attn: Testing & Certification.

FOR FURTHER INFORMATION CONTACT: Jon Panek, phone (301) 960-1216, email jpanek@eac.gov; U.S. Election Assistance Commission, 633 3rd Street NW, Suite 200, Washington, DC 20001.

Kevin Rayburn,
General Counsel, U.S. Election Assistance Commission.

[FR Doc. 2021-24501 Filed 11-8-21; 8:45 am]

BILLING CODE P